DEPARTMENT OF THE INTERIOR

National Park Service

[NPS-WASO-BSD-0212-9671; 2410-OYC]

Proposed Information Collection; Proposed Sale of Concession Operations

AGENCY: National Park Service (NPS), Interior.

ACTION: Notice; request for comments.

SUMMARY: We (National Park Service) will ask the Office of Management and Budget (OMB) to approve the information collection (IC) described below. To comply with the Paperwork Reduction Act of 1995 and as a part of our continuing efforts to reduce paperwork and respondent burden, we invite the general public and other Federal agencies to comment on this IC. This IC is scheduled to expire on July 31, 2012. We may not conduct or sponsor and a person is not required to respond to a collection unless it displays a currently valid OMB control number.

DATES: Please submit your comment on or before May 1, 2012.

ADDRESSES: Please send your comments on the IC to Madonna Baucum, Acting Information Collection Clearance Coordinator, National Park Service, 1201 Eye St. NW., MS 1242, Washington, DC 20005 (mail); or madonna_baucum@nps.gov (email). Please reference “1024-0126, Proposed Sale of Concessions Operations” in the subject line of your comments.

FOR FURTHER INFORMATION CONTACT: Jo A. Pendry, Chief, Commercial Services Program, 1201 Eye St. NW., Washington, DC 20005. You may send an email to jo_pendry@nps.gov or contact her by telephone at (202) 513-7156 or via fax at (202) 371-2070. You are entitled to a copy of the entire IC package free of charge.

SUPPLEMENTARY INFORMATION:

I. Abstract

The NPS authorizes private businesses known as concessioners to provide necessary and appropriate visitor facilities and services in areas of the National Park System. Concession authorizations may be assigned, sold, transferred, or encumbered by the concessioner subject to prior written approval of the NPS. The NPS requires that certain information be submitted for review prior to the consummation of any sale, transfer, assignment, or encumbrance.

The information requested is used to determine whether or not the proposed transaction will result in an adverse impact on the protection, conservation, or preservation of the resources of the unit of the National Park System; decreased services to the public; the lack of a reasonable opportunity for profit over the remaining term of the authorization; or rates in excess of approved rates to the public. In addition, pursuant to the regulations at 36 CFR Part 51, the value of rights for intangible assets such as the concession contract, right of preference in renewal, user days, or low fees, belongs to the Government.

If any portion of the purchase price is attributable either directly or indirectly to such assets, the transaction may not be approved. The amount and type of information to be submitted varies with the type and complexity of the proposed transaction. Without such information, the NPS would be unable to determine whether approval of the proposed transaction would be adequate.

II. Data

OMB Control Number: 1024-0126.

Title: Proposed Sale of Concession Operations, 36 CFR 51, Subpart J.

Form(s): None.

Type of Request: Extension of a previously approved collection of information.

Description of Respondents: Businesses, individuals, and nonprofit organizations.

Respondent's Obligation: Required to obtain or retain benefits.

Frequency of Collection: On Occasion.

Estimated Number of Annual Respondents: 20.

Completion Time per Response: 80 hours.

Estimated Total Annual Burden Hours: 1,600.

Estimated Annual Nonhour Burden Cost: $5,000—There are no costs associated with preparing and submitting an application, other than expenses for printing, which is estimated to be approximately $250 per application (with 20 applications [$250 × 20 = $5,000]).

III. Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: February 28, 2012.
Madonna L. Baucum,
Acting Information Collection Clearance Officer, National Park Service.

[FR Doc. 2012-5158 Filed 3-1-12; 8:45 am]

BILLING CODE 4310-52-P